COMMISSION ON CIVIL RIGHTS

Notice of Public Meeting of the Maine Advisory Committee; Cancellation

AGENCY: Commission on Civil Rights.

ACTION: Notice; cancellation of meeting date.

SUMMARY: The Commission on Civil Rights published a notice in the Federal Register concerning a meeting of the Maine Advisory Committee. The meeting scheduled for Wednesday, May 4, 2022, at 12:00 p.m. (ET) is cancelled. The notice is in the Federal Register of Thursday, March 3, 2022, in FR Doc. 2022-04438, in the first of page 12078 and the first and second columns of page 12079.

FOR FURTHER INFORMATION CONTACT: Mallory Trachtenberg, (202) 809-9618, mtrachtenberg@usccr.gov.

Dated: April 8, 2022.
David Mussatt,
Supervisory Chief, Regional Programs Unit.

[FR Doc. 2022-07923 Filed 4-12-22; 8:45 am]

BILLING CODE 6335-01-P